FEDERAL COMMUNICATIONS COMMISSION

47 CFR Parts 2 and 15

[ET Docket No. 03-201; Report 3019]

Petition for Reconsideration of Action in a Rulemaking Proceeding

AGENCY: Federal Communications Commission.

ACTION: Petition for reconsideration.

SUMMARY: A Petition for Reconsideration (Petition) has been filed in the Commission's Rulemaking proceeding by Warren Havens, on behalf of Telesaurus Holdings GB LLC., and Skybridge Spectrum Foundation.

DATES: Oppositions to the Petition must be filed on or before May 11, 2015. Replies to an opposition must be filed on or before May 19, 2015.

ADDRESSES: Federal Communications Commission, 445 12th Street SW., Washington DC 20554.

FOR FURTHER INFORMATION CONTACT: Paul Murray, Office of Engineering and Technology Bureau, (202) 418-0688, or email: Paul.Murray@fcc.gov.

SUPPLEMENTARY INFORMATION: This is a summary of Commission's document, Report No. 3019, released April 16, 2015. The full text of Report No. 3019 is available for viewing and copying in Room CY-B402, 445 12th Street, SW., Washington, DC. The Commission will not send a copy of this Notice pursuant to the Congressional Review Act, 5 U.S.C. 801(a)(1)(A), because this Notice does not have an impact on any rules of particular applicability.

Subjects: In the Matter of Modification of Parts 2 and 15 of the Commission's Rules for unlicensed devices and equipment approval, ET Docket No. 03-201, published at 79 FR 40678, July 14, 2014, and published pursuant to 47 CFR 1.429(e) of the Commission's rules. See also 47 CFR 1.4(b)(1) of the Commission's rules.

Number of Petitions Filed: 1.

Federal Communications Commission.
Marlene H. Dortch,
Secretary.

[FR Doc. 2015-09490 Filed 4-23-15; 8:45 am]

BILLING CODE 6712-01-P